DEPARTMENT OF DEFENSE

Department of the Air Force

Notice of Intent To Prepare an Environmental Impact Statement Addressing the KC-46A Main Operating Base #6 (MOB 6) Beddown at MacDill Air Force Base, Florida or Fairchild Air Force Base, Washington

AGENCY: Department of the Air Force, Department of Defense.

ACTION: Notice of intent.

SUMMARY: The Department of the Air Force (DAF) is issuing this Notice of Intent (NOI) to prepare an Environmental Impact Statement (EIS) to assess the potential social, economic, and environmental impacts associated with the KC-46A Main Operating Base #6 (MOB 6) Beddown. The DAF is proposing to beddown KC-46A tanker aircraft, personnel, and associated infrastructure in support of the MOB 6 mission at MacDill Air Force Base (AFB), Florida, or, as an alternative, Fairchild AFB in Washington State.

DATES: A public scoping period of 30 days will take place starting from the date of this NOI publication in the Federal Register. Identification of potential alternatives, information, and analyses relevant to the proposed action are requested and will be accepted at any time during the EIS process. To ensure DAF has sufficient time to consider public input in the preparation of the Draft EIS, scoping comments should be submitted in writing to the website or the address listed below within the 30-day scoping period. The Draft EIS is anticipated in Winter 2022/2023 and the Final EIS is anticipated in Fall 2023. The Record of Decision would be approved and signed 30 days after the Final EIS.

ADDRESSES: Scoping comments may be submitted to Helen Kellogg, AFCEC/CZN; Attn: KC-46A MOB 6 EIS; 2261 Hughes Ave., Suite 155; JBSA Lackland, TX 78236-9853 or Email: Helen.Kellogg.1@us.af.mil. The project website (www.kc46amob6eis.com) provides information on the EIS and the scoping process, and can be used to submit scoping comments online. EIS inquiries and requests for digital or print copies of scoping materials are available upon request at the email or mailing address provided. For printed material requests, the standard U.S. Postal Service shipping timeline will apply. Members of the public who want to receive future mailings informing them on the availability of the Draft and Final EIS are encouraged to submit a comment that includes their name and email or postal mailing address.

FOR FURTHER INFORMATION CONTACT: Helen Kellogg, AFCEC/CZN; Attn: KC-46A MOB 6 EIS; 2261 Hughes Ave., Suite 155; JBSA Lackland, TX 78236-9853; Telephone: 210-925-7843; or Email: Helen.Kellogg.1@us.af.mil.

SUPPLEMENTARY INFORMATION: The MOB 6 mission includes the beddown of 24 KC-46A aircraft in two squadrons of 12 at MacDill AFB in Florida under the Proposed Action or, as an alternative, at Fairchild AFB in Washington State. The KC-46A aircraft would recapitalize the aging KC-135 tanker fleet and would continue supporting the mission of providing worldwide refueling, cargo, and aeromedical evacuation support.

The purpose of the Proposed Action is to recapitalize aging tanker aircraft currently utilized by DAF with the KC-46A model to better address future mission requirements, offer expanded capability, and provide life-cycle cost savings in comparison to continued operation of existing KC-135 Stratotanker. The Proposed Action is needed because the KC-46A will provide capabilities currently lacking in the existing tanker fleet, resulting in a fully capable, combat operational tanker force to accomplish aerial refueling and related worldwide missions.

Resource areas being analyzed for impacts under the Proposed Action include: Noise, biological resources, cultural resources, socioeconomics, soils and geology, water resources, infrastructure and transportation, land use, hazardous materials and wastes, health and safety, air quality, and environmental justice and other sensitive receptors. Potential impacts under the Proposed Action at MacDill AFB or the Fairchild AFB alternative are anticipated to be less than significant or mitigatable to less than significant. Permits may be required for the Proposed Action at MacDill AFB, Florida or at Fairchild AFB, Washington. If so, the DAF will get all appropriate permits. In addition, the DAF will comply with the substantive requirements of the Florida Coastal Management Program. The DAF will also consult with appropriate resource agencies and Native American tribes to determine the potential for significant impacts. Consultation will be incorporated into the preparation of the EIS and will include, but not be limited to, consultation under Section 7 of the Endangered Species Act and consultation under Section 106 of the National Historic Preservation Act.

Scoping and Agency Coordination: To effectively define the full range of issues to be evaluated in the EIS, DAF will determine the scope of the analysis by soliciting comments from interested local, state, and federal elected officials and agencies, Tribes, as well as, interested members of the public and others. Implementation of the KC-46A MOB 6 mission at MacDill AFB would have the potential to be located in a floodplain and/or wetland. Consistent with the requirements and objectives of Executive Order (E.O.) 11990, “Protection of Wetlands,” and E.O. 11988, “Floodplain Management,” state and federal regulatory agencies with special expertise in wetlands and floodplains, such as the Federal Emergency Management Agency, U.S. Army Corps of Engineers, Florida Department of Environmental Protection, and the Florida State Floodplain Management Office will be contacted and asked to comment. Consistent with E.O. 11988 and E.O. 11990, this Notice of Intent initiates early public review of the Proposed Action and alternatives and invites public comments and identification of potential alternatives.

Concurrent with the publication of this notice of intent, public scoping notices will be announced locally. In accordance with DAF guidance, in-person public scoping meetings will not be held. Public scoping will instead be accomplished remotely, in accordance with the 2020 version of 40 CFR part 1506.6, via the project website at www.kc46amob6eis.com. The project website provides posters, a presentation, an informational fact sheet, downloadable comment forms to fill out and return by mail, and the capability for the public to submit scoping comments online. Scoping materials are also available at the following libraries: MacDill AFB Library (8102 Condor Street, Tampa, FL 3362), Port Tampa City Public Library (4902 W Commerce St, Tampa, FL 33616), Fairchild AFB Library (2 W Castle Street, Fairchild AFB, WA 99011), and Spokane Public Library (906 W Main Ave., Spokane, WA 99201).

Adriane Paris,
Air Force Federal Register Liaison Officer.

[FR Doc. 2022-08030 Filed 4-13-22; 8:45 am]

BILLING CODE 5001-10-P